DEPARTMENT OF JUSTICE

Bureau of Prisons

28 CFR Part 571

[BOP-1090-P]

RIN 1120-AA85

Designation of Offenses

AGENCY: Federal Bureau of Prisons, Department of Justice.

ACTION: Proposed rule.

SUMMARY: The Bureau of Prisons (Bureau) proposes to remove rules which designate various offenses as sexual offenses for purposes of U.S. Code because that provision, which necessitated regulations, has been repealed in relevant part.

DATES: Comments are due by April 9, 2013.

FOR FURTHER INFORMATION CONTACT: Sarah Qureshi, Office of General Counsel, Bureau of Prisons, phone (202) 307-2105.

SUPPLEMENTARY INFORMATION:

Posting of Public Comments

Please note that all comments received are considered part of the public record and made available for public inspection online at www.regulations.gov. Such information includes personal identifying information (such as your name, address, etc.) voluntarily submitted by the commenter.

If you want to submit personal identifying information (such as your name, address, etc.) as part of your comment, but do not want it to be posted online, you must include the phrase “PERSONAL IDENTIFYING INFORMATION” in the first paragraph of your comment. You must also locate all the personal identifying information you do not want posted online in the first paragraph of your comment and identify what information you want redacted.

If you want to submit confidential business information as part of your comment but do not want it to be posted online, you must include the phrase “CONFIDENTIAL BUSINESS INFORMATION” in the first paragraph of your comment. You must also prominently identify confidential business information to be redacted within the comment. If a comment contains so much confidential business information that it cannot be effectively redacted, all or part of that comment may not be posted on www.regulations.gov.

Personal identifying information identified and located as set forth above will be placed in the agency's public docket file, but not posted online. Confidential business information identified and located as set forth above will not be placed in the public docket file. If you wish to inspect the agency's public docket file in person by appointment, please see the “For Additional Information” paragraph.

Proposed Rule

The Bureau proposes to remove rules which designate various offenses as sexual offenses for purposes of 18 U.S.C. 4042(c) because that provision, which necessitated regulations, has been repealed in relevant part. The Bureau published an interim rule on this subject on December 16, 1998 (63 FR 69386) (1998 interim rule). When this proposed rule is finalized, it will result in the retraction/deletion of the 1998 interim rule.

Previously, section 4042(c) of Title 18, United States Code, effective November 26, 1998, provided for notification of sex offender release and certain related functions to facilitate effective sex offender registration and tracking. Notifications were required to be made for persons convicted of the federal offenses noted in subsection (c)(4)(A) through (D). Subsection (c)(4)(E) authorized the Attorney General to designate other offenses as sexual offenses for purposes of subsection (c). The Attorney General delegated this authority to the Director of the Bureau of Prisons. (See 63 FR 69386, December 16, 1998.)

The 1998 interim rule designated additional offenses which are to be considered sexual offenses for purposes of 18 U.S.C. 4042(c). These additional designations, listed in current § 571.72, include state sexual offenses, District of Columbia Code sexual offenses, and certain Uniform Code of Military Justice offenses.

The current regulations, therefore, were specifically promulgated in accordance with language in § 4042(c)(4)(E) providing that offenses in addition to those specifically enumerated at 4042(c)(4)(A)-(D) may be “designated by the Attorney General as a sexual offense for the purposes of this subsection.”

However, 18 U.S.C. 4042(c)(4) was repealed by the Sex Offender Registration and Notification Act (SORNA), which is Title I of the Adam Walsh Child Protection and Safety Act of 2006 (Pub. L. 109-248). Because the revised 18 U.S.C. 4042(c) requires release notice for persons required to register under SORNA, the Bureau no longer needs to separately designate sexual offenses in addition to those set forth by the statute. The offenses previously listed in the regulation are generally incorporated in SORNA's comprehensive list of covered offenses, thereby rendering the Bureau's current regulations in subpart H of 28 CFR part 571 unnecessary. We therefore now propose to remove and reserve 28 CFR part 571, subpart H.

Executive Order 12866

This regulation has been drafted and reviewed in accordance with Executive Order 12866, “Regulatory Planning and Review”, section 1(b), Principles of Regulation. The Director, Bureau of Prisons has determined that this rule is not a “significant regulatory action” under Executive Order 12866, section 3(f), and accordingly this rule has not been reviewed by the Office of Management and Budget.

Executive Order 13132

This regulation will not have substantial direct effects on the States, on the relationship between the national government and the States, or on distribution of power and responsibilities among the various levels of government. Under Executive Order 13132, this rule does not have sufficient federalism implications for which we would prepare a Federalism Assessment.

Regulatory Flexibility Act

The Director of the Bureau of Prisons, under the Regulatory Flexibility Act (5 U.S.C. 605(b)), reviewed this regulation. By approving it, the Director certifies that it will not have a significant economic impact upon a substantial number of small entities because: this rule is about the correctional management of offenders committed to the custody of the Attorney General or the Director of the Bureau of Prisons, and its economic impact is limited to the Bureau's appropriated funds.

Unfunded Mandates Reform Act of 1995

This rule will not cause State, local and tribal governments, or the private sector, to spend $100,000,000 or more in any one year, and it will not significantly or uniquely affect small governments. We do not need to take action under the Unfunded Mandates Reform Act of 1995.

Small Business Regulatory Enforcement Fairness Act of 1996

This rule is not a major rule as defined by § 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

List of Subjects in 28 CFR Part 571

Prisoners.

Charles E. Samuels, Jr.,
Director, Bureau of Prisons.

Under rulemaking authority vested in the Attorney General in 5 U.S.C. 301; 28 U.S.C. 509, 510 and delegated to the Director, Bureau of Prisons in 28 CFR § 0.96, we propose to amend 28 CFR part 571 as set forth below.

SUBCHAPTER D—COMMUNITY PROGRAMS AND RELEASE

PART 571—RELEASE FROM CUSTODY

1. The authority citation for Part 571 continues to read as follows:

Authority: 5 U.S.C. 301; 18 U.S.C. 3565, 3568-3569 (Repealed in part as to offenses committed on or after November 1, 1987), 3582, 3621, 3622, 3624, 4001, 4042, 4081, 4082 (Repealed in part as to offenses committed on or after November 1, 1987), 4161-4166 and 4201-4218 (Repealed as to offenses committed on or after November 1, 1987), 5006-5024 (Repealed October 12, 1984 as to offenses committed after that date), 5031-5042; 28 U.S.C. 509, 510; U.S. Const., Art. II, Sec. 2; 28 CFR 0.95-0.99, 1.1-1.10.

Subpart H [Removed and Reserved]

2. Subpart H, Designation of Offenses for Purposes of 18 U.S.C. 4042(c) is removed and reserved.

[FR Doc. 2013-02765 Filed 2-7-13; 8:45 am]

BILLING CODE 4410-05-P